DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treas.gov/ofac).

Notice of OFAC Actions

On July 9, 2018, OFAC determined that the property and interests in property subject to U.S. jurisdiction of the following person are blocked under the relevant sanctions authorities listed below.

Entity

1. MAHAN TRAVEL AND TOURISM SDN BHD (a.k.a. MAHAN TRAVEL), No.01, Lower Ground Floor, Block C, NO:12 Megan Avenue2, Jalan Yap, Kwan Seng, Kuala Lumpur, Malaysia; website http://mahantravel.com.my; Email Address mahankualalumpur@yahoo.com; Additional Sanctions Information—Subject to Secondary Sanctions; Registration Number 875233-U (Malaysia) [SDGT] [IFSR] (Linked To: MAHAN AIR).

Designated pursuant to section 1(c) of E.O. 13224 for acting for or on behalf of Iran's MAHAN AIR, a person determined to be subject to E.O. 13224, and section 1(d)(i) of E.O. 13224 for assisting in, sponsoring, or providing financial, material, techological support for, or financial or other services to or in support of, MAHAN AIR.

Dated: July 9, 2018.
Andrea M. Gacki,
Acting Director, Office of Foreign Assets Control.

[FR Doc. 2018-15470 Filed 7-18-18; 8:45 am]

BILLING CODE 4810-AL-P